DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Shasta McClenahan (File Nos. 17350, 20523, 20605, 21045, and 21114), Carrie Hubard (File No. 16111 and 20311), Sara Young (File No. 20043), Courtney Smith (File No. 21170), and Jennifer Skidmore (File No. 16580) at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

File No. | RIN | Applicant | Receipt of application Federal Register notice | Permit or amendment issuance date
16111-02 | 0648-XA626 | John Calambokidis, Cascadia Research Collective, Waterstreet Building, Suite 201, 218 ½ West Fourth Ave., Olympia, WA 98501 | 77 FR 19645; April 2, 2012 | July 13, 2017.
16580-01 | 0648-XB158 | Shannon Atkinson, Ph.D., University of Alaska Fairbanks, 17101 Pt. Lena Loop Road, Juneau, AK 99801 | 77 FR 31835; May 30, 2012 | July 17, 2017.
17350-02 | 0648-XC067 | North Slope Borough Department of Wildlife Management, (Taqulik Hepa, Responsible Party), P.O. Box 69, Barrow, AK 99723 | 77 FR 36488; June 19, 2012 | July 20, 2017.
20043 | 0648-XF153 | Whitlow Au, Ph.D., University of Hawaii, P.O. Box 1346, Kaneohe, HI 96744 | 82 FR 4858; January 17, 2017 | July 28, 2017.
20311 | 0648-XF412 | NMFS Pacific Islands Fisheries Science Center, (Evan Howell, Ph.D., Responsible Party), 1845 Wasp Boulevard, Building 176, Honolulu, HI 96818 | 82 FR 22498; May 16, 2017 | June 30, 2017.
20523 | 0648-XF455 | National Museum of Natural History (Kirk Johnson, Ph.D., Responsible Party), P.O. Box 37012, Washington, DC 20013 | 82 FR 26455; June 7, 2017 | July 10, 2017.
20605 | 0648-XF381 | Robin Baird, Ph.D., Cascadia Research Collective, 218 ½ West Fourth Avenue, Olympia, WA 98501 | 82 FR 22503; May 16, 2017 | July 28, 2017.
21045 | 0648-XF350 | Matson Laboratory (Carolyn Nistler, Responsible Party), 135 Wooden Shoe Lane, Manhattan, MT 59741 | 82 FR 22516; May 16, 2017 | June 29, 2017.
21114 | 0648-XF453 | The Whale Museum (Jenny Atkinson, Responsible Party), P.O. Box 945, Friday Harbor, WA 98250 | 82 FR 26455; June 7, 2017 | July 25, 2017.
21170 | 0648-XF399 | Keith Ellenbogen, Keith Ellenbogen Photography, 795 Carroll Street, Brooklyn, NY 11215 | 82 FR 21370; May 8, 2017 | July 3, 2017.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: August 15, 2017.
Julia Harrison,
Chief, Permits and Conservation Division, Office of Protected Resources, National Marine Fisheries Service.

[FR Doc. 2017-17695 Filed 8-21-17; 8:45 am]

BILLING CODE 3510-22-P